DEPARTMENT OF THE TREASURY

Public Meeting of the President's Advisory Panel on Federal Tax Reform

AGENCY: Department of the Treasury.

ACTION: Notice of meeting.

SUMMARY: This notice advises all interested persons of the location of the March 8, 2005, public meeting of the President's Advisory Panel on Federal Tax Reform. This meeting was previously announced in 70 FR 8875 (February 23, 2005).

DATES: The meeting will be held on Tuesday, March 8, 2005, in Tampa, Florida, and will begin at 9:30 a.m.

ADDRESSES: The meeting will be held at SAGO Networks, 4465 W. Gandy Blvd., Suite 800, Tampa, Florida. Seating will be available on a first-come, first-served basis.

FOR FURTHER INFORMATION CONTACT: The Panel staff at (202) 927-2TAX (927-2829) (not a toll-free call) or email info@taxreformpanel.gov (please do not send comments to this box). Additional information is available at http://www.taxreformpanel.gov.

Dated: March 2, 2005.
Mark S. Kaizen,
Designated Federal Officer.

[FR Doc. 05-4364 Filed 3-3-05; 8:45 am]

BILLING CODE 4810-25-P